DEPARTMENT OF ENERGY

Federal Energy Regulatory Commission

[Docket No. EL08-36-000]

Dominion Resources Services, Inc. Complainant, v. PJM Interconnection, LLC Respondent; Notice of Complaint, Request for Fast Track Processing

January 30, 2008.

Take notice that on January 28, 2008, Dominion Resources Services, Inc. filed a complaint under section 206 of the Federal Power Act alleging that the PJM Interconnection, LLC is violating the generator interconnection provisions of its tariff.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of answers, protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on February 11, 2008.

Kimberly D. Bose,
Secretary.

[FR Doc. E8-2115 Filed 2-5-08; 8:45 am]

BILLING CODE 6717-01-P